DEPARTMENT OF COMMERCE

National Oceanic and Atmospheric Administration

RIN 0648-XG469

Advisory Committee to the U.S. Section of the International Commission for the Conservation of Atlantic Tunas; Fall Meeting

AGENCY: National Marine Fisheries Service (NMFS), National Oceanic and Atmospheric Administration (NOAA), Commerce.

ACTION: Notice of public meeting.

SUMMARY: In preparation for the 2018 International Commission for the Conservation of Atlantic Tunas (ICCAT) meeting, the Advisory Committee to the U.S. Section to ICCAT is announcing the convening of its fall meeting.

DATES: The meeting will be held on October 17-18, 2018. There will be an open session on Wednesday, October 17, 2018, from 9 a.m. through approximately 12:30 p.m. The remainder of the meeting will be closed to the public and is expected to end by 1 p.m. on October 18. Interested members of the public may present their views during the public comment session on October 17, 2018.

ADDRESSES: The meeting will be held at the Hampton Inn Silver Spring, 8728-A Colesville Road, Silver Spring, MD 20910. Written comments should be sent via email to grace.ferrara@noaa.gov. Comments may also be sent via mail to Grace Ferrara at NMFS, Office of International Affairs and Seafood Inspection, 1315 East-West Highway, Silver Spring, MD 20910.

FOR FURTHER INFORMATION CONTACT: Grace Ferrara, Office of International Affairs and Seafood Inspection, 301-427-8371.

SUPPLEMENTARY INFORMATION: The Advisory Committee to the U.S. Section to ICCAT will meet October 17-18, 2018, first in an open session to consider management- and research-related information on stock status of Atlantic highly migratory species and then in a closed session to discuss sensitive matters. The open session will be from 9 a.m. through 12:30 p.m. on October 17, 2018, including an opportunity for public comment beginning at approximately 12 p.m. Comments may also be submitted in writing for the Advisory Committee's consideration. Interested members of the public can submit comments by mail or email; use of email is encouraged. All written comments must be received by October 12, 2018 (see ADDRESSES).

NMFS expects members of the public to conduct themselves appropriately at the open session of the Advisory Committee meeting. At the beginning of the public comment session, an explanation of the ground rules will be provided (e.g., alcohol in the meeting room is prohibited, speakers will be called to give their comments in the order in which they registered to speak, each speaker will have an equal amount of time to speak and speakers should not interrupt one another). The session will be structured so that all attending members of the public are able to comment, if they so choose, regardless of the degree of controversy of the subject(s). Those not respecting the ground rules will be asked to leave the meeting.

After the open session, the Advisory Committee will meet in closed session to discuss sensitive information relating to upcoming international negotiations regarding Atlantic highly migratory species conservation and management.

Special Accommodations

The meeting location is physically accessible to people with disabilities. Requests for sign language interpretation or other auxiliary aids should be directed to Grace Ferrara at (301) 427-8371 or grace.ferrara@noaa.gov at least 5 days prior to the meeting date.

Dated: September 17, 2018.
John Henderschedt,
Director, Office of International Affairs and Seafood Inspection, National Marine Fisheries Service.

[FR Doc. 2018-20714 Filed 9-21-18; 8:45 am]

BILLING CODE 3510-22-P